DEPARTMENT OF COMMERCE

International Trade Administration

[A-570-158]

Aluminum Extrusions From the People's Republic of China: Final Affirmative Determination of Sales at Less Than Fair Value

AGENCY: Enforcement and Compliance, International Trade Administration, Department of Commerce.

SUMMARY: The U.S. Department of Commerce (Commerce) determines that aluminum extrusions from the People's Republic of China (China) are being, or are likely to be, sold in the United States at less than fair value (LTFV) for the period of investigation (POI) April 1, 2023, through September 30, 2023.

DATES: Applicable October 3, 2024.

FOR FURTHER INFORMATION CONTACT: Luke Caruso or Jonathan Hill, AD/CVD Operations, Office IV, Enforcement and Compliance, International Trade Administration, U.S. Department of Commerce, 1401 Constitution Avenue NW, Washington, DC 20230; telephone: (202) 482-2081 or (202) 482-3518, respectively.

SUPPLEMENTARY INFORMATION:

Background

On May 7, 2024, Commerce published in the Federal Register, and invited interested parties to comment on, its preliminary affirmative determination in the LTFV investigation of aluminum extrusions from China.¹ We invited interested parties to comment on the Preliminary Determination. On July 22, 2024, Commerce tolled certain deadlines in this administrative proceeding by seven days. The deadline for the final determination of this investigation is now September 26, 2024.²

¹ See Aluminum Extrusions from the People's Republic of China: Preliminary Affirmative Determination of Sales at Less Than Fair Value, Postponement of Final Determination, and Extension of Provisional Measures, 89 FR 38031 (May 7, 2024) (Preliminary Determination), and accompanying Preliminary Decision Memorandum (PDM).

² See Memorandum, “Tolling of Deadlines for Antidumping and Countervailing Duty Proceedings,” dated July 22, 2024.

A summary of the events that occurred since Commerce published the Preliminary Determination, as well as a full discussion of the issues raised by parties for this final determination, may be found in the Issues and Decision Memorandum.³ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

³ See Memorandum, “Decision Memorandum for the Final Affirmative Determination in the Less-Than-Fair-Value Investigation of Aluminum Extrusions from the Socialist Republic of China,” dated concurrently with, and hereby adopted by, this notice (Issues and Decision Memorandum).

Scope of the Investigation

The products covered by this investigation are aluminum extrusions from China. For a complete description of the scope of this investigation, see Appendix I to this notice.

Scope Comments

During the course of this investigation, Commerce received scope comments from interested parties. Commerce issued Preliminary Scope Decision Memoranda to address these comments and set aside a period of time for parties to address scope issues in scope-specific case and rebuttal briefs.⁴ Between May 22, 2024, and June 24, 2024, Commerce received post-preliminary determination scope comments from interested parties regarding numerous products and scope-related issues. Between July 20, 2024, and August 19, 2024, Commerce received scope case and rebuttal briefs from numerous interested parties. We made changes to the scope of the investigation from the scope published in the Preliminary Determination, as noted in Appendix I.⁵

⁴ See Memorandum, “Preliminary Scope Decision Memorandum II,” dated May 1, 2024 (Preliminary Scope Decision Memorandum II); see also Memorandum, “Preliminary Scope Decision Memorandum,” dated March 4, 2024 (Preliminary Scope Decision Memorandum).

⁵ See Memorandum, “Final Scope Decision Memorandum,” dated concurrently with this notice.

Verification

Commerce conducted verifications of the sales and factors of production information submitted by Sanhua (Hangzhou) Micro Channel Heat Exchanger Co., Ltd (SHMC) and one of its suppliers consistent with section 782(i) of the Tariff Act of 1930, as amended (the Act).⁶ We used standard procedures to conduct the verifications, including examining relevant sales and accounting records and original source documents provided by the companies.

⁶ See Memoranda “Verification of the Sales Information Provided by Sanhua (Hangzhou) Micro Channel Heat Exchanger Co., Ltd. in the Less-Than-Fair-Value Investigation of Aluminum Extrusions from the People's Republic of China” dated August 21, 2024, and “Verification of the Factors of Production Information Provided by Sanhua (Hangzhou) Micro Channel Heat Exchanger Co., Ltd. in the Less-Than-Fair-Value Investigation of Aluminum Extrusions from the People's Republic of China” dated August 21, 2024.

Analysis of Comments Received

We addressed all the issues raised in the case and rebuttal briefs submitted by interested parties in this investigation in the Issues and Decision Memorandum. A list of the issues addressed in the Issues and Decision Memorandum is attached to this notice as Appendix II.

Changes Since the Preliminary Determination

We made certain changes to our calculations of SHMC's PAE's estimated weighted-average dumping margin. For a discussion of these changes, see the Issues and Decision Memorandum.

China-Wide Entity and Use of Adverse Facts Available

Consistent with the Preliminary Determination,⁷ Commerce continues to find, pursuant to sections 776(a) and (b) of the Act, that the use of facts otherwise available, with adverse inferences, is warranted in determining the dumping rate for the China-wide entity. For this final determination, as adverse facts available (AFA), we have continued to assign a rate of 376.85 percent, which is the highest dumping margin alleged in the petition, to the China-wide entity.⁸

⁷ See Preliminary Determination PDM at 6-9.

⁸ Id.; see also Initiation Notice, 88 FR at 74426; see also AD Investigation Initiation Checklist: Aluminum Extrusions from the Socialist Republic of China (October 24, 2023) (Initiation Checklist).

Separate Rates

No interested party commented on Commerce's preliminary separate rate determinations,⁹ and we have no basis to reconsider those determinations. Accordingly, we continue to find that SHMC, and certain non-individually examined companies that are listed in the rate table below, are eligible for a separate rate.

⁹ See Preliminary Determination PDM at 6-11.

In calculating the rate for non-individually examined respondents that received a separate rate in a non-market economy LTFV investigation, Commerce normally looks to section 735(c)(5)(A) of the Act, which pertains to the calculation of the all-others rate in a market economy LTFV investigation, for guidance. Pursuant to section 735(c)(5)(A) of the Act, normally this rate shall be an amount equal to the weighted average of the estimated weighted-average dumping margins established for those companies individually examined, excluding any dumping margins that are zero, de minimis, or based entirely on facts available under section 776 of the Act. The statute further provides that, where all calculated dumping margins are zero, de minimis, or based entirely on facts available under section 776 of the Act, Commerce may use “any reasonable method” for assigning the rate to non-selected respondents.

Commerce has calculated an estimated weighted-average dumping margin for the sole mandatory respondent that is eligible for a separate rate, SHMC, that is not zero, de minimis, or based entirely on facts available. Therefore, in accordance with section 735(c)(5)(A) of the Act, we have assigned SHMC's calculated estimated weighted-average dumping margin to the non-individually examined respondents that received a separate rate.

Combination Rates

Consistent with the Preliminary Determination, and Policy Bulletin 05.1,¹⁰ Commerce calculated combination rates for the respondents that are eligible for a separate rate.

¹⁰ See Enforcement and Compliance's Policy Bulletin No. 05.1, regarding, “Separate-Rates Practice and Application of Combination Rates in Antidumping Investigations involving Non-Market Economy Countries,” (April 5, 2005) (Policy Bulletin 05.1), available at https://access.trade.gov/Resources/policy/bull05-1.pdf.

Final Determination

The final estimated weighted-average dumping margins are as follows:

Producer | Exporter | Weighted- average dumping margin (percent) | Cash deposit rate (adjusted for subsidy offsets) (percent)
Hydro Aluminium (Suzhou) Co., Ltd | Sanhua (Hangzhou) Micro Channel Heat Exchanger Co., Ltd./Sanhua Intelligent Controls Co., Ltd./Zhejiang Sanhua Automotive Components Co., Ltd./Shaoxing Sanhua New Energy Automotive Components Co., Ltd./Shaoxing Sanhua Automotive Thermal Management Technology Co., Ltd./Sanhua Heat Exchanger (Zhengzhou) Co., Ltd./Sanhua International Singapore Pte. Ltd.¹¹ | 4.25 | 0.00
Jiangsu Gongchang Precision Aluminum Co., Ltd | Sanhua (Hangzhou) Micro Channel Heat Exchanger Co., Ltd./Sanhua Intelligent Controls Co., Ltd./Zhejiang Sanhua Automotive Components Co., Ltd./Shaoxing Sanhua New Energy Automotive Components Co., Ltd./Shaoxing Sanhua Automotive Thermal Management Technology Co., Ltd./Sanhua Heat Exchanger (Zhengzhou) Co., Ltd./Sanhua International Singapore Pte. Ltd | 4.25 | 0.00
Gerald New Energy (Jiangsu) Co., Ltd | Sanhua (Hangzhou) Micro Channel Heat Exchanger Co., Ltd./Sanhua Intelligent Controls Co., Ltd./Zhejiang Sanhua Automotive Components Co., Ltd./Shaoxing Sanhua New Energy Automotive Components Co., Ltd./Shaoxing Sanhua Automotive Thermal Management Technology Co., Ltd./Sanhua Heat Exchanger (Zhengzhou) Co., Ltd./Sanhua International Singapore Pte. Ltd | 4.25 | 0.00
Shandong Hongyuan Metal Materials Co., Ltd | Sanhua (Hangzhou) Micro Channel Heat Exchanger Co., Ltd./Sanhua Intelligent Controls Co., Ltd./Zhejiang Sanhua Automotive Components Co., Ltd./Shaoxing Sanhua New Energy Automotive Components Co., Ltd./Shaoxing Sanhua Automotive Thermal Management Technology Co., Ltd./Sanhua Heat Exchanger (Zhengzhou) Co., Ltd./Sanhua International Singapore Pte. Ltd | 4.25 | 0.00
Yangzhou Resler Composite Metal Materials Co., Ltd | Sanhua (Hangzhou) Micro Channel Heat Exchanger Co., Ltd./Sanhua Intelligent Controls Co., Ltd./Zhejiang Sanhua Automotive Components Co., Ltd./Shaoxing Sanhua New Energy Automotive Components Co., Ltd./Shaoxing Sanhua Automotive Thermal Management Technology Co., Ltd./Sanhua Heat Exchanger (Zhengzhou) Co., Ltd./Sanhua International Singapore Pte. Ltd | 4.25 | 0.00
Shandong Wanchuang Metal Technology Co., Ltd | Sanhua (Hangzhou) Micro Channel Heat Exchanger Co., Ltd./Sanhua Intelligent Controls Co., Ltd./Zhejiang Sanhua Automotive Components Co., Ltd./Shaoxing Sanhua New Energy Automotive Components Co., Ltd./Shaoxing Sanhua Automotive Thermal Management Technology Co., Ltd./Sanhua Heat Exchanger (Zhengzhou) Co., Ltd./Sanhua International Singapore Pte. Ltd | 4.25 | 0.00
Wuxi Fengyun Aluminum Industry Co., Ltd | ACP (Changzhou) Heat Exchanger Co., Ltd | 4.25 | 0.00
Changzhou Xiangyun Aluminum Industry Co., Ltd | ACP (Changzhou) Heat Exchanger Co., Ltd | 4.25 | 0.00
Changshu Changsheng Aluminium Products Co., Ltd | Changshu Changsheng Aluminium Products Co., Ltd | 4.25 | 0.00
Changzhou Tenglong Auto Parts Co., Ltd | Changzhou Tenglong Auto Parts Co., Ltd | 4.25 | 0.00
Chongqing Chaoli Electric Appliance Co., Ltd | Chongqing Chaoli Electric Appliance Co., Ltd | 4.25 | 0.00
Danfoss (Jiaxing) Co., Ltd | Danfoss Micro Channel Heat Exchanger (Jiaxing) Co., Ltd | 4.25 | 0.00
Liaocheng Wanhe Commercial and Trading Ltd | Danfoss Micro Channel Heat Exchanger (Jiaxing) Co., Ltd | 4.25 | 0.00
Shandong Wanchuang Metal Technology Co, Ltd | Danfoss Micro Channel Heat Exchanger (Jiaxing) Co., Ltd | 4.25 | 0.00
Hydro Precision Tubing (Suzhou) Co., Ltd | Danfoss Micro Channel Heat Exchanger (Jiaxing) Co., Ltd | 4.25 | 0.00
Zhongshan Changzheng Metal Co., Ltd | Foshan City Shunde District Rongcheng Stainless Steel Sanitary Wares Industrial Co., Ltd | 4.25 | 0.00
Zhaoqing Aohua Aluminum Co., Ltd | Guangdong Wireking Housewares & Hardware Co., Ltd | 4.25 | 0.00
Guangdong XinWei Aluminum Products Co., Ltd | Guangdong XinWei Aluminum Products Co., Ltd | 4.25 | 0.00
Guangdong Yongfeng Lihua Shading Technology Co., Ltd | Guangdong Yongfeng Lihua Shading Technology Co., Ltd | 4.25 | 0.00
Guangdong Haomei New Materials Co. Ltd | Hao Mei Aluminium Products Company Limited | 4.25 | 0.00
Jiangsu SV Precision Components Co., Ltd | Jiangsu SV Precision Components Co., Ltd | 4.25 | 0.00
Guangxi Tianheng Auto Component Manufacturing Co., Ltd | Kromet International Inc | 4.25 | 0.00
Wuxi Huaguang Automotive Technology Co., Ltd | Mercury Marine Technology (Suzhou) Company Ltd | 4.25 | 0.00
Ningbo Jiada Specialty Metals Ltd | Mercury Marine Technology (Suzhou) Company Ltd | 4.25 | 0.00
Wuxi Jiangyuan Aluminum Co., Ltd | Modine Thermal System (Changzhou) Co., Ltd | 4.25 | 0.00
Jiangsu Asia Pacific Aviation Technology | Modine Thermal System (Changzhou) Co., Ltd | 4.25 | 0.00
Ningbo Yinzhou Yinxin Aluminum Co., LTD | Ningbo Innopower Tengda Machinery Co., Ltd | 4.25 | 0.00
JiangSu Daiweimu New Kinetic Technology Co., Ltd | Scheco Mechanical and Electronic Co., Ltd | 4.25 | 0.00
Jiangsu Jiangnan Chuangjia Profile Co., Ltd | Scheco Mechanical and Electronic Co., Ltd | 4.25 | 0.00
Jiangsu Lide Aluminum Industry Co., Ltd | Scheco Mechanical and Electronic Co., Ltd | 4.25 | 0.00
Wuxi Huaguang Automotive Technology Co., Ltd | Wuxi Huaguang Automotive Technology Co., Ltd | 4.25 | 0.00
Zhejiang Guoyao Aluminum Co., Ltd | Zhejiang Guoyao Aluminum Co., Ltd | 4.25 | 0.00
Zhejiang Xinlong Industry Co., Ltd | Zhejiang Xinlong Industry Co., Ltd | 4.25 | 0.00
China-wide Entity |  | * 376.85 | 365.13
* Rate based on AFA.

Disclosure

¹¹ Commerce has preliminarily determined that the mandatory respondent Sanhua (Hangzhou) Micro Channel Heat Exchanger Co., Ltd. is affiliated with the following companies and has treated these companies as a single entity: (1) Sanhua Intelligent Controls Co., Ltd.; (2) Zhejiang Sanhua Automotive Components Co., Ltd.; (3) Shaoxing Sanhua New Energy Automotive Components Co., Ltd.; (4) Shaoxing Sanhua Automotive Thermal Management Technology Co., Ltd.; (5) Sanhua Heat Exchanger (Zhengzhou) Co., Ltd.; and (6) Sanhua International Singapore Pte. Ltd. See Preliminary Decision Memorandum.

Commerce intends to disclose the calculations performed in this final determination to parties to the proceeding within five days of any public announcement or, if there is no public announcement, within five days of the date of publication of this notice in the Federal Register in accordance with 19 CFR 351.224(b).

Continuation of Suspension of Liquidation

In accordance with section 735(c)(1)(B) of the Act, we will instruct U.S. Customs and Border Protection (CBP) to continue to suspend liquidation of all appropriate entries of subject merchandise, as described in Appendix I of this notice, which were entered, or withdrawn from warehouse, for consumption on or after May 7, 2024, the date of publication in the Federal Register of the Preliminary Determination.

Pursuant to section 735(c)(1)(B)(ii) of the Act and 19 CFR 351.210(d), upon the publication of this notice, Commerce will instruct CBP to require a cash deposit for estimated antidumping duties for appropriate entries. To determine the antidumping duty cash deposit rate, Commerce normally adjusts the estimated weighted-average dumping margin by the amount of domestic subsidy pass-through and export subsidies determined in a companion countervailing duty (CVD) proceeding. As Commerce made an affirmative determination for domestic subsidy pass-through and found export subsidies, we have offset the calculated estimated weighted-average dumping margins in the above table by the appropriate subsidy rates to calculate the applicable cash deposit rates.

Commerce will instruct CBP to require the following cash deposits for estimated antidumping duties for all appropriate entries: (1) for the producer/exporter combinations listed in the table above, the applicable cash deposit rate is listed in the table for that combination; (2) for all combinations of Chinese producers/exporters of the merchandise under consideration that have not established eligibility for a separate rate, the cash deposit rate will be equal to the cash deposit rate listed for the China-wide entity in the table above; and (3) for all third-country exporters of the merchandise under consideration that are not listed in the table above, the cash deposit rate is the cash deposit rate applicable to the Chinese producer/exporter combination or the China-wide entity that supplied that third-country exporter. These suspension of liquidation instructions will remain in effect until further notice.

U.S. International Trade Commission Notification

In accordance with section 735(d) of the Act, we will notify the U.S. International Trade Commission (ITC) of this final affirmative determination of sales at LTFV. Because the final determination in this investigation is affirmative, in accordance with section 735(b)(2) of the Act, the ITC will make its final determination as to whether the domestic industry in the United States is materially injured, or threatened with material injury, by reason of imports of aluminum extrusions no later than 45 days after this final determination. If the ITC determines that material injury or threat of material injury does not exist, the proceeding will be terminated and all cash deposits will be refunded or canceled, and suspension of liquidation will be lifted. If the ITC determines that such injury does exist, Commerce will issue an antidumping duty order directing CBP to assess, upon further instructions by Commerce, antidumping duties on all imports of the subject merchandise that are entered, or withdrawn from warehouse, for consumption on or after the effective date of the suspension of liquidation, as discussed above in the “Continuation of Suspension of Liquidation” section.

Administrative Protective Order

This notice serves as the only reminder to parties subject to an administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This determination and this notice are issued and published pursuant to sections 735(d) and 777(i)(1) of the Act, and 19 CFR 351.210(c).

Dated: September 26, 2024.
Abdelali Elouaradia,
Deputy Assistant Secretary for Enforcement and Compliance.

Appendix I

Scope of the Investigation

The merchandise subject to this investigation are aluminum extrusions, regardless of form, finishing, or fabrication, whether assembled with other parts or unassembled, whether coated, painted, anodized, or thermally improved. Aluminum extrusions are shapes and forms, produced by an extrusion process, made from aluminum alloys having metallic elements corresponding to the alloy series designations published by the Aluminum Association commencing with the numbers 1, 3, and 6 (or proprietary equivalents or other certifying body equivalents). Specifically, subject aluminum extrusions made from an aluminum alloy with an Aluminum Association series designation commencing with the number 1 contain not less than 99 percent aluminum by weight. Subject aluminum extrusions made from an aluminum alloy with an Aluminum Association series designation commencing with the number 3 contain manganese as the major alloying element, with manganese accounting for not more than 3.0 percent of total materials by weight. Subject aluminum extrusions made from an aluminum alloy with an Aluminum Association series designation commencing with the number 6 contain magnesium and silicon as the major alloying elements, with magnesium accounting for at least 0.1 percent but not more than 2.0 percent of total materials by weight, and silicon accounting for at least 0.1 percent but not more than 3.0 percent of total materials by weight. The scope also includes merchandise made from an aluminum alloy with an Aluminum Association series designation commencing with the number 5 (or proprietary equivalents or other certifying body equivalents) that have a magnesium content accounting for up to but not more than 2.0 percent of total materials by weight.

The country of origin of the aluminum extrusion is determined by where the metal is extruded (i.e., pressed through a die).

Aluminum extrusions are produced and imported in a wide variety of shapes and forms, including, but not limited to, hollow profiles, other solid profiles, pipes, tubes, bars, and rods. Aluminum extrusions that are drawn subsequent to extrusion (drawn aluminum) are also included in the scope.

Subject aluminum extrusions are produced and imported with a variety of coatings and surface treatments, and types of fabrication. The types of coatings and treatments applied to aluminum extrusions include, but are not limited to, extrusions that are mill finished (i.e., without any coating or further finishing), brushed, buffed, polished, anodized (including bright dip), liquid painted, electroplated, chromate converted, powder coated, sublimated, wrapped, and/or bead blasted. Subject aluminum extrusions may also be fabricated, i.e., prepared for assembly, or thermally improved. Such operations would include, but are not limited to, extrusions that are cut-to-length, machined, drilled, punched, notched, bent, stretched, stretch-formed, hydroformed, knurled, swedged, mitered, chamfered, threaded, spun, etched, and engraved. Performing such operations in third countries does not otherwise remove the merchandise from the scope of the investigation.

The types of products that meet the definition of subject merchandise include but are not limited to, the aluminum extrusion portions of vehicle roof rails and sun/moon roof framing, solar panel racking rails and framing, tradeshow display fixtures and framing, parts for tents or clear span structures, fence posts, drapery rails or rods, electrical conduits, door thresholds, flooring trim, electric vehicle battery trays, heat sinks, signage or advertising poles, telescoping poles, or cleaning system components.

Aluminum extrusions may be heat sinks, which are fabricated aluminum extrusions that dissipate heat away from a heat source and may serve other functions, such as structural functions. Heat sinks come in a variety of sizes and shapes, including but not limited to a flat electronic heat sink, which is a solid aluminum extrusion with at least one flat side used to mount electronic or mechanical devices; a heat sink that is a housing for electronic controls or motors; lighting heat sinks, which dissipate heat away from LED devices; and process and exchange heat sinks, which are tube extrusions with fins or plates used to hold radiator tubing. Heat sinks are included in the scope, regardless of whether the design and production of the heat sinks are organized around meeting specified thermal performance requirements and regardless of whether they have been tested to comply with such requirements. For purposes of the investigations on aluminum extrusions from the People's Republic of China, only heat sinks designed and produced around meeting specified thermal performance requirements and tested to comply with such requirements are included in the scope. Excluded from the scope of the investigation are large, multi-finned extruded aluminum heat sinks designed to dissipate heat, meeting the following criteria: (1) an aspect ratio (defined as the ratio of the area of a void in an extrusion to the size of the smallest gap opening at the entrance of that void and calculated by dividing the void area by the square of the gap opening) greater than 15 to 1; or (2) the circumscribing circle diameter (defined as the diameter of the smallest circle that will entirely enclose the extrusion's cross-sectional profile) rounded up to the next half inch, exceeds 10 inches, and the weight-per-foot (defined as the theoretical weight of the profile as extruded prior to any machining that may remove material and calculated by multiplying the area of the profile in square inches by 1.2) exceeds 3.50 pounds per foot.

Merchandise that is comprised solely of aluminum extrusions or aluminum extrusions and fasteners, whether assembled at the time of importation or unassembled, is covered by the scope in its entirety. A fastener is any material or part that serves an attachment function, fastens two or more components, or serves to prevent or restrict movement of a component or another item. Examples of fasteners include, but are not limited to, nuts, bolts, clamps, and end caps.

The scope also includes aluminum extrusions contained in merchandise that is a part or subassembly of a larger whole, whether or not the merchandise also contains a component other than aluminum extrusions that is beyond a fastener. Such merchandise may be either assembled or unassembled at the time of importation. A “part or subassembly” is defined as a unit designed to be attached to, or incorporated with, one or more other units or components into a larger completed product. Only the aluminum extrusion portion of the merchandise described in this paragraph, whether assembled or unassembled, is subject merchandise included in the scope and subject to duties. Examples of merchandise that is a part or subassembly of a larger whole include, but are not limited to, window parts or subassemblies; door unit parts or subassemblies; shower and bath parts or subassemblies; solar panel mounting systems; fenestration system parts or subassemblies, such as units which make up a curtain wall, and window walls and window wall units, which collectively make up a fenestration system on the side of a building; and parts or subassemblies of storefronts; furniture parts or subassemblies; appliance parts or subassemblies, such as fin evaporator coils and systems for refrigerators; railing or deck system parts or subassemblies; fence system parts or subassemblies; motor vehicle parts or subassemblies, such as bumpers for motor vehicles; trailer parts or subassemblies, such as side walls, flooring, and roofings; electric vehicle charging station parts or subassemblies; or signage or advertising system parts or subassemblies. Parts or subassemblies described by this paragraph that are subject to duties in their entirety pursuant to existing antidumping and countervailing duty orders (defined as those antidumping and countervailing duty orders that are in effect as of the date of publication of order resulting from this investigation) are excluded from the scope of this investigation. Any part or subassembly that otherwise meets the requirements of this scope and that is not covered by other antidumping and/or countervailing duty orders remains subject to the scope of the investigation.

The scope excludes aluminum extrusions contained in fully and permanently assembled merchandise, if the assembled merchandise is not a part or subassembly of a larger whole. To be excluded under this paragraph, the assembled merchandise must also contain a component other than aluminum extrusions, beyond fasteners. In addition, to be excluded under this paragraph, the assembled merchandise must be ready for use as imported, without undergoing after importation any processing, fabrication, finishing, or assembly or the addition of parts or material (with the exception of consumable parts or material or interchangeable media or tooling).

The scope also excludes aluminum extrusions contained in unassembled merchandise if the unassembled merchandise is not a part or subassembly of a larger whole. To be excluded under this paragraph, the unassembled merchandise must also contain a component other than aluminum extrusions, beyond fasteners. In addition, to be excluded under this paragraph, the unassembled merchandise must be a packaged combination of parts that is ready to be assembled as imported, without undergoing after importation any processing, fabrication, or finishing or the addition of parts or material (with the exception of consumable parts or material or interchangeable media or tooling). To be excluded under this paragraph, the unassembled merchandise must be sold and enter as a discrete kit on one Customs entry form.

Examples of such excluded assembled and unassembled merchandise include windows with glass, door units with door panel and glass, motor vehicles, trailers, furniture, appliances, and solar panels and solar modules. Window walls and window wall units are not considered windows with glass for purposes of this exclusion.

The scope also excludes merchandise containing multiple subassemblies of a larger whole with non-extruded aluminum components beyond fasteners. A subassembly that meets the definition of subject merchandise, including any product expressly identified as subject merchandise in this scope, can only be excluded if it is fully and permanently assembled with at least one other different subassembly, and where (1) at least one of the subassemblies, if entered individually, would not itself be subject to the scope; (2) the aluminum extrusions within the merchandise collectively account for 50 percent or less of the actual weight of the combined multiple subassemblies (without including any non-extruded aluminum fasteners in the calculations); and (3) the aluminum extrusions within the merchandise collectively account for 50 percent or less of the number of pieces of the combined multiple subassemblies (without including any non-extruded aluminum fasteners in the calculations).

The scope also includes aluminum extrusions that have been further processed in a third country, including, but not limited to, the finishing and fabrication processes described above, assembly, whether with other aluminum extrusion components or with non-aluminum extrusion components, or any other processing that would not otherwise remove the merchandise from the scope if performed in the country of manufacture of the in-scope product. Third country processing; finishing; and/or fabrication, including those processes described in the scope, does not alter the country of origin of the subject aluminum extrusions.

The following aluminum extrusion products are excluded: aluminum extrusions made from an aluminum alloy with an Aluminum Association series designations commencing with the number 2 (or proprietary equivalents or other certifying body equivalents) and containing in excess of 1.5 percent copper by weight; aluminum extrusions made from an aluminum alloy with an Aluminum Association series designation commencing with the number 5 (or proprietary equivalents or other certifying body equivalents) and containing in excess of 2.0 percent magnesium by weight; and aluminum extrusions made from an aluminum alloy with an Aluminum Association series designation commencing with the number 7 (or proprietary equivalents or other certifying body equivalents) and containing in excess of 2.0 percent zinc by weight.

The scope also excludes aluminum alloy sheet or plates produced by means other than the extrusion process, such as aluminum products produced by a method of continuous casting or rolling. Cast aluminum products are also excluded. The scope also excludes unwrought aluminum in any form.

The scope also excludes collapsible tubular containers composed of metallic elements corresponding to alloy code 1080A as designated by the Aluminum Association (not including proprietary equivalents or other certifying body equivalents) where the tubular container (excluding the nozzle) meets each of the following dimensional characteristics: (1) length of 37 millimeters (mm) or 62 mm; (2) outer diameter of 11.0 mm or 12.7 mm; and (3) wall thickness not exceeding 0.13 mm.

Also excluded from the scope are extruded drawn solid profiles made from an aluminum alloy with the Aluminum Association series designation commencing with the number 1, 3, or 6 (or proprietary equivalents or other certifying body equivalents), including variants on individual alloying elements not to circumvent the other Aluminum Association series designations, which meet each of the following characteristics: (1) solid cross sectional area greater than 62.4 mm² and less than 906 mm², (2) minimum electrical conductivity of 58% of the international annealed copper standard (IACS) or maximum resistivity of 2.97μΩ/cm, (3) a uniformly applied nonelectrically conductive temperature-resistant coating co-extruded over characteristic (1) of either polyamide, cross-linked polyethylene, or silicone rubber material which meets the following standards: (a) Vicat A temperature threshold of >140 degrees Celsius, (b) flammability requirements of UL 94V-0, and (c) a minimum coating thickness of 0.10 mm and maximum coating thickness of 2.0 mm, with a maximum thickness tolerance of +/− 0.20 mm, (4) characteristic 3 may or may not be encapsulated with a “Precision Drawn Tubing,” wall thicknesses less than 1.2mm, which is mechanically fixed in place, and (5) packaged in straight lengths, bent or formed and/or attached to hardware.

Also excluded from the scope are extruded tubing and drawn over a ID plug and through a OD die made from an aluminum alloy with the Aluminum Association series designation commencing with the number 3, 5, or 6 (or proprietary equivalents or other certifying body equivalents), including variants on individual alloying elements not to circumvent the other Aluminum Association series designations, which meet each of the following characteristics: (1) an outside mean diameter no greater than 30 mm with a tolerance less than or equal to +/− 0.10 mm, (2) uniform wall thickness no greater than 2.7 mm with wall tolerances less than or equal to +/− 0.1 mm, (3) may be coated with materials, including zinc, such that the coating material weight is no less than 3 g/m2 and no greater than 30 g/m2, and (4) packaged in continuous coils, straight lengths, bent or formed.

The scope also excludes fully and permanently assembled glass refrigerator shelves with decorative aluminum trim meeting the following characteristics: (1) aluminum trim meeting Aluminum Association series 6063-T5 designation that is anodized; (2) aluminum trim length of not more than 800mm, and (3) aluminum trim width of not more than 40mm. Such fully and permanently assembled glass refrigerator shelves include other components in addition to the aluminum trim, including, but not limited to, glass, steel, and plastic. Only fully and permanently assembled glass refrigerator shelves that require no further processing, fabrication, finishing, assembly, or the addition of any parts or material are excluded. Imports of glass refrigerator shelves are classified under HTSUS 8418.99.8050, which is being included for convenience.

Also excluded from the scope of this investigation is certain rectangular wire, imported in bulk rolls or precut strips and produced from continuously cast rolled aluminum wire rod, which is subsequently extruded to dimension to form rectangular wire with or without rounded edges. The product is made from aluminum alloy grade 1070 or 1370 (not including proprietary equivalents or other certifying body equivalents), with no recycled metal content allowed. The dimensions of the wire are 2.95 mm to 6.05 mm in width, and 0.65 mm to 1.25 mm in thickness. Imports of rectangular wire are provided for under Harmonized Tariff Schedule of the United States (HTSUS) subheadings 7605.19.0000, 7604.10.5000, or 7616.99.5190.

Also excluded from the scope of the antidumping and countervailing duty investigations on aluminum extrusions from the People's Republic of China are all products covered by the scope of the antidumping and countervailing duty orders on Aluminum Extrusions from the People's Republic of China. See Aluminum Extrusions from the People's Republic of China: Antidumping Duty Order, 76 FR 30650 (May 26, 2011); and Aluminum Extrusions from the People's Republic of China: Countervailing Duty Order, 76 FR 30653 (May 26, 2011) (collectively, Aluminum Extrusions from the People's Republic of China). Solely for the investigations on aluminum extrusions from the People's Republic of China, the following is an exhaustive list of products where the aluminum extrusion portions thereof meet the definition of subject merchandise. The language contained in the rest of the scope applies to this exhaustive list of products. Merchandise that is not included in the following list that meets the definition of subject merchandise in the 2011 antidumping and countervailing duty orders on Aluminum Extrusions from the People's Republic of China remains subject to the earlier orders. No other section of this scope language that provides examples of subject merchandise is exhaustive.

The aluminum extrusion portions of the following products are included in the scope of the investigations on aluminum extrusions from the People's Republic of China, whether assembled or unassembled: heat sinks as described above; cleaning system components like mop parts and subassemblies and poles; banner stand and back wall parts and subassemblies; fabric wall systems; drapery rails; side mount valve controls; water heater anodes; solar panel mounting systems; automotive heating and cooling system components; assembled motor cases with stators; louver assemblies; event décor; window wall and window wall units and parts; trade booths; micro channel heat exchangers; telescoping poles, pole handles, and pole attachments; flagpoles; wind sign frames; foreline hose assembly; electronics enclosures; parts and subassemblies for storefronts, including portal sets; light poles; air duct registers; outdoor sporting goods parts and subassemblies; glass refrigerator shelves; aluminum ramps; handicap ramp system parts and subassemblies; frames and parts for tents and clear span structures; parts and subassemblies for screen enclosures, patios, and sunrooms; parts and subassemblies for walkways and walkway covers; aluminum extrusions for Light Emitting Diode (LED) lights; parts and subassemblies for screen, storm, and patio doors; pontoon boat parts and subassemblies, including rub rails, flooring, decking, transom structures, canopy systems, seating; boat hulls, framing, ladders, and transom structures; parts and subassemblies for docks, piers, boat lifts and mounting; recreational and boat trailer parts and subassemblies, including subframes, crossmembers, and gates; solar tracker assemblies with gears; garage door framing systems; door threshold and sill assemblies; highway and bridge signs; bridge, street, and highway rails; scaffolding, including planks and struts; railing and support systems; parts and subassemblies for exercise equipment; weatherstripping; door bottom and sweeps; door seals; floor transitions and trims; parts and subassemblies for modular walls and office furniture; truck trailer parts and subassemblies; boat cover poles, outrigger poles, and rod holders; bleachers and benches; parts and subassemblies for elevators, lifts, and dumbwaiters; parts and subassemblies for mirror and framing systems; window treatments; parts and subassemblies for air foils and fans; bus and Recreational Vehicle (RV) window frames; sliding door rails; dock ladders; parts and subassemblies for RV frames and trailers; awning, canopy, and sunshade structures and their parts and subassemblies; marine motor mounts; linear lighting housings; and cluster mailbox systems.

Imports of the subject merchandise are primarily provided for under the following categories of the HTSUS: 7604.10.1000; 7604.10.3000; 7604.10.5000; 7604.21.0010; 7604.21.0090; 7604.29.1010; 7604.29.1090; 7604.29.3060; 7604.29.3090; 7604.29.5050; 7604.29.5090; 7608.10.0030; 7608.10.0090; 7608.20.0030; 7608.20.0090; 7609.00.0000; 7610.10.0010; 7610.10.0020; 7610.10.0030; 7610.90.0040; and 7610.90.0080.

Imports of the subject merchandise, including subject merchandise entered as parts of other products, may also be classifiable under the following additional HTSUS categories, as well as other HTSUS categories: 6603.90.8100; 7606.12.3091; 7606.12.3096; 7615.10.2015; 7615.10.2025; 7615.10.3015; 7615.10.3025; 7615.10.5020; 7615.10.5040; 7615.10.7125; 7615.10.7130; 7615.10.7155; 7615.10.7180; 7615.10.9100; 7615.20.0000; 7616.10.9090; 7616.99.1000; 7616.99.5130; 7616.99.5140; 7616.99.5190; 8302.10.3000; 8302.10.6030; 8302.10.6060; 8302.10.6090; 8302.20.0000; 8302.30.3010; 8302.30.3060; 8302.41.3000; 8302.41.6015; 8302.41.6045; 8302.41.6050; 8302.41.6080; 8302.42.3010; 8302.42.3015; 8302.42.3065; 8302.49.6035; 8302.49.6045; 8302.49.6055; 8302.49.6085; 8302.50.0000; 8302.60.3000; 8302.60.9000; 8305.10.0050; 8306.30.0000; 8414.59.6590; 8415.90.8045; 8418.99.8005; 8418.99.8050; 8418.99.8060; 8419.50.5000; 8419.90.1000; 8422.90.0640; 8424.90.9080; 8473.30.2000; 8473.30.5100; 8479.89.9599; 8479.90.8500; 8479.90.9596; 8481.90.9060; 8481.90.9085; 8486.90.0000; 8487.90.0080; 8503.00.9520; 8508.70.0000; 8513.90.2000; 8515.90.2000; 8516.90.5000; 8516.90.8050; 8517.71.0000; 8517.79.0000; 8529.90.7300; 8529.90.9760; 8536.90.8585; 8538.10.0000; 8541.90.0000; 8543.90.8885; 8547.90.0020; 8547.90.0030; 8547.90.0040; 8708.10.3050; 8708.29.5160; 8708.80.6590; 8708.99.6890; 8807.30.0060; 9031.90.9195; 9401.99.9081; 9403.99.1040; 9403.99.9010; 9403.99.9015; 9403.99.9020; 9403.99.9040; 9403.99.9045; 9405.99.4020; 9506.11.4080; 9506.51.4000; 9506.51.6000; 9506.59.4040; 9506.70.2090; 9506.91.0010; 9506.91.0020; 9506.91.0030; 9506.99.0510; 9506.99.0520; 9506.99.0530; 9506.99.1500; 9506.99.2000; 9506.99.2580; 9506.99.2800; 9506.99.5500; 9506.99.6080; 9507.30.2000; 9507.30.4000; 9507.30.6000; 9507.30.8000; 9507.90.6000; and 9603.90.8050.

While HTSUS subheadings are provided for convenience and customs purposes, the written description of the scope is dispositive.

Appendix II

List of Topics Discussed in the Issues and Decision Memorandum

I. Summary

II. Background

III. Changes Since the Preliminary Determination

IV. Discussion of the Issues

Comment 1: Whether Commerce Should Deduct Tolling Expenses from U.S. Sales Prices

Comment 2: Whether Commerce Should Base SHMC's U.S. Prices on Facts Available

Comment 3: Whether Commerce Used Incorrect Movement Expenses in Its Calculations

Comment 4: Whether Commerce Should Have Adjusted SHMC's Cash Deposit Rate for Domestic Subsidies

Comment 5: Whether Commerce Deviated from Practice and Proper Procedures When Conducting this Investigation

Comment 6: Whether Commerce Selected the Appropriate Surrogate Country

Comment 7: Whether Commerce Should Exclude Packing Cost from Normal Value

Comment 8: Whether Commerce Correctly Calculated SHMC's U.S. Sales Prices

Comment 9: Whether Commerce Should Apply Its Differential Pricing Analysis to SHMC

Comment 10: Whether Commerce Incorrectly Excluded Certain Companies from the SHMC Single Entity and Omitted Certain Suppliers from SHMC's Combination Rates

Comment 11: Whether Commerce Should Issue a Negative Final Determination

Comment 12: Whether Commerce Should Not Have Selected Larkcop as a Mandatory Respondent

Comment 13: Whether Commerce Should Not Have Applied Total AFA to Larkcop

Comment 14: Whether Commerce Should Allow MAHLE to File an SRA

Comment 15: Whether Commerce Properly Considered Sales of Products Containing Subject Aluminum Extrusions

Comment 16: Whether Commerce Should Have Granted NBJEL a Separate Rate

Comment 17: Whether Commerce Selected an Unduly Punitive China-Wide Entity Rate

Comment 18: Whether Commerce Should Have Granted Huajian a Separate Rate

V. Recommendation

[FR Doc. 2024-22775 Filed 10-2-24; 8:45 am]

BILLING CODE 3510-DS-P